DEPARTMENT OF AGRICULTURE

Natural Resources Conservation Service

Notice of Proposed Change to the Natural Resources Conservation Service's National Handbook of Conservation Practices

AGENCY: Natural Resources Conservation Service (NRCS), U.S. Department of Agriculture, Maine State Office.

ACTION: Notice of availability of proposed changes in the NRCS National Handbook of Conservation Practices, Section IV of the Maine State NRCS Field Office Technical Guide (FOTG) located at http://www.me.nrcs.usda.gov under “Draft Standards for Comments” for review and comment.

SUMMARY: It is the intention of NRCS to issue revised conservation practice standards in its National Handbook of Conservation Practices. These revised standards are the following:

314 Brush Management; 329 Residue Management, Ridge-Till; 340 Cover Crop; 342 Critical Area Planting; 344 Residue Management, Seasonal; 386 Field Border; 511 Forage Harvest Management; 512 Pasture and Hay Planting; 528 Animal Trails and Walkways; 590 Nutrient Management; 557 Row Arrangement.

DATES: Comments will be received for a 30-day period commencing with this date of publication.

FOR FURTHER INFORMATION CONTACT: Inquire in writing to Christopher R. Jones, State Resource Conservationist, Natural Resources Conservation Service (NRCS), 967 Illinois Avenue, Suite #3, Bangor, Maine 04401.

A copy of these standards are available from the above individual.

SUPPLEMENTARY INFORMATION: Section 343 of the Federal Agricultural Improvement and Reform Act of 1966 states that revisions made after enactment of the law to NRCS State Technical Guides used to carry out highly erodible land and wetland provisions of the law shall be made available for public review and comment. For the next 30 days the NRCS will receive comments relative to the proposed changes. Following that period a determination will be made by the NRCS regarding disposition of those comments and a final determination of change will be made.

Dated: November 4, 2004.
Christopher R. Jones,
State Resource Conservationist.

[FR Doc. 04-25246 Filed 11-12-04; 8:45 am]

BILLING CODE 3410-16-P